DEPARTMENT OF ENERGY

Federal Energy Regulatory Commission

Combined Notice of Filings

Take notice that the Commission has received the following Natural Gas Pipeline Rate and Refund Report filings:

Filings Instituting Proceedings

Docket Number: PR19-36-000.

Applicants: Bay Gas Storage Company, Ltd.

Description: Tariff filing per 284.123(b),(e)/: Bay Gas Storage Co., Ltd. 2019 Annual Adjustment to Company Use Percentage to be effective 3/1/2019.

Filed Date: 2/6/19.

Accession Number: 201902065085.

Comments/Protests Due: 5 p.m. ET 2/27/19.

Docket Numbers: RP19-641-000.

Applicants: Dominion Energy Questar Pipeline, LLC.

Description: § 4(d) Rate Filing: 2019 Cleanup to be effective 3/10/2019.

Filed Date: 2/7/19.

Accession Number: 20190207-5170.

Comments Due: 5 p.m. ET 2/19/19.

Docket Numbers: RP19-642-000.

Applicants: Dominion Energy Overthrust Pipeline, LLC.

Description: § 4(d) Rate Filing: 2019 Cleanup to be effective 3/10/2019.

Filed Date: 2/7/19.

Accession Number: 20190207-5172.

Comments Due: 5 p.m. ET 2/19/19.

Docket Numbers: RP19-643-000.

Applicants: White River Hub, LLC.

Description: § 4(d) Rate Filing: Housekeeping to be effective 3/10/2019.

Filed Date: 2/7/19.

Accession Number: 20190207-5173.

Comments Due: 5 p.m. ET 2/19/19.

Docket Numbers: RP19-644-000.

Applicants: Questar Southern Trails Pipeline Company.

Description: § 4(d) Rate Filing: 2019 Housekeeping to be effective 3/10/2019.

Filed Date: 2/7/19.

Accession Number: 20190207-5174.

Comments Due: 5 p.m. ET 2/19/19.

Docket Numbers: RP19-645-000.

Applicants: Rockies Express Pipeline LLC.

Description: § 4(d) Rate Filing: Neg Rate 2019-02-07 BHS (3) to be effective 2/7/2019.

Filed Date: 2/7/19.

Accession Number: 20190207-5175.

Comments Due: 5 p.m. ET 2/19/19.

Docket Numbers: RP19-646-000.

Applicants: Northern Border Pipeline Company.

Description: § 4(d) Rate Filing: Correction to NBPL PAL Rate to be effective 2/1/2019.

Filed Date: 2/8/19.

Accession Number: 20190208-5046.

Comments Due: 5 p.m. ET 2/20/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2019.
Nathaniel J. Davis, Sr.,
Deputy Secretary.

[FR Doc. 2019-02501 Filed 2-14-19; 8:45 am]

BILLING CODE 6717-01-P